DEPARTMENT OF STATE

[Public Notice: 10448]

Privacy Act of 1974; System of Records

AGENCY: Department of State.

ACTION: Notice of a modified System of Records.

SUMMARY: Information in the Legal Adviser's Case Management Records is used to provide or facilitate the provision of legal advice and opinion to the offices of the Department of State and to facilitate defense or representation of the Department in litigation and in other legal proceedings. Information may also be used to reply to requests from federal, state, local, or international courts, agencies, commissions, organizations, or mechanisms.

DATES: In accordance with 5 U.S.C. 552a(e)(4) and (11), this system of records notice is effective upon publication, with the exception of the routine uses (c), (e), (g), (h) and (k), which are subject to a 30-day period during which interested persons may submit comments to the Department. Please submit any comments by July 20, 2018.

ADDRESSES: Questions can be submitted by mail or email. If mail, please write to: U.S Department of State; Office of Global Information Systems, Privacy Staff; A/GIS/PRV; SA-2, Suite 8100; Washington, DC 20522-0208. If email, please address the email to the Senior Agency Official for Privacy, Mary R. Avery, at Privacy@state.gov. Please write “Legal Case Management Records, State-21” on the envelope or the subject line of your email.

FOR FURTHER INFORMATION CONTACT: Mary R. Avery, Senior Agency Official for Privacy; U.S. Department of State; Office of Global Information Services, A/GIS/PRV; SA-2, Suite 8100; Washington, DC 20522-0208 or at (202)663-2215.

SUPPLEMENTARY INFORMATION: The purpose of this modification is to make substantive and administrative changes to the previously published notice. This notice modifies the following sections of State-21, Legal Case Management Records: Categories of Individuals, Categories of Records, Purpose, Routine Uses, and Record Source Categories. In addition, this notice makes administrative updates to the following sections: Safeguards, Record Access Procedures, Contesting Record Procedures, Notification Procedures, and History. These changes reflect new OMB guidance, additional types of records, additional routine uses of records, updated contact information, and a notice publication history.

SYSTEM NAME AND NUMBER

Legal Case Management Records, State-21.

SECURITY CLASSIFICATION:

Unclassified and Classified.

SYSTEM LOCATION:

Department of State (“Department”), located at 2201 C Street NW, Washington, DC 20520; Department of State annexes, U.S. Embassies, U.S. Consulates General, and U.S. Consulates.

SYSTEM MANAGER(S):

Executive Director, Office of the Legal Adviser and Bureau of Legislative Affairs, Department of State, 600 19th Street NW, Suite 5.600, Washington, DC 20522 and can be reached at Legal-privacy@state.gov.

AUTHORITY FOR MAINTENANCE OF THE SYSTEM:

5 U.S.C. 301; 22 U.S.C. 2651a; 22 U.S.C. 2656; 42 U.S.C. 659; 42 U.S.C. 666; 5 CFR part 581.

PURPOSE(S) OF THE SYSTEM:

Information in the Legal Adviser's Case Management Records is used to provide or facilitate the provision of legal advice and opinion to the offices of the Department of State and to facilitate defense or representation of the Department in litigation and in other legal proceedings. Information may also be used to reply to requests from federal, state, local, or international courts, agencies, commissions, organizations, or mechanisms.

CATEGORIES OF INDIVIDUALS COVERED BY THE SYSTEM:

Individuals who have filed or are the subject of administrative grievances or proceedings and Equal Employment Opportunity complaints; individuals involved in disciplinary proceedings; individuals involved in alleged criminal activity or activity in violation of regulations; individuals who have filed claims against the United States; individuals who have sued the Department of State or any officials; individuals whose records may be relevant to legal proceedings involving the Department of State; individuals who are the subjects of inquiries from federal, state, and local agencies; individuals who are the subjects of inquiries by international commissions, organizations, or mechanisms; individuals who are the subjects of income withholding orders, garnishment orders, bankruptcy orders, state tax liens, and similar court or agency documents; individuals who have raised or discussed legal or policy questions with the Office of the Legal Adviser; and individuals who have otherwise contacted the Office of the Legal Adviser. The Privacy Act defines an individual at 5 U.S.C. 552a(a)(2) as a United States citizen or lawful permanent resident.

CATEGORIES OF RECORDS IN THE SYSTEM:

Biographic information, such as name, contact information, and place of birth; employment histories; summaries of circumstances surrounding grievances, Equal Employment Opportunity complaints, claims, litigation, or disciplinary proceedings; internal memoranda; copies of indictments and charges; criminal records and reports of investigations; civil and administrative court records; emails; electronic records in various formats; supporting documentation for a case against or involving the Department, an individual or group; contracts and other legal documents; income withholding orders, garnishment orders, bankruptcy orders, state tax liens, and similar court or agency documents; inquiries from federal, state, and local agencies, and responses to those inquiries; inquiries from international commissions, organizations or mechanisms, and responses to those inquiries; documents that may be relevant to or obtained in the course of legal proceedings and investigations; correspondence related to legal or policy issues, regardless of format (paper or electronic).

RECORD SOURCE CATEGORIES:

These records contain information that is primarily obtained from the individual; offices of the Department of State; other government agencies, particularly the Department of Justice; court systems and administrative bodies; international commissions, organizations, and other mechanisms; previous employers; neighbors; security investigation reports; other employees or individuals having knowledge of the issue about which a legal opinion is requested or who are party to litigation or investigation.

ROUTINE USES OF RECORDS MAINTAINED IN THE SYSTEM, INCLUDING CATEGORIES OF USERS AND PURPOSES OF SUCH USES:

Legal Case Management Records may be disclosed to:

(a) The Department of Justice and other federal agencies in connection with facilitating defense of the Department in legal proceedings and analyzing legal issues;

(b) Federal, state, and foreign courts, tribunals, and adjudicatory bodies where relevant and necessary to legal proceedings;

(c) International courts, tribunals, commissions, organizations, and mechanisms where relevant and necessary to proceedings or inquiries;

(d) A party to a legal proceeding involving the Department, or the party's attorney or other designated representative where relevant and necessary to legal proceedings;

(e) A source, witness or subject, or an attorney or other designated representative of any source, witness or subject where relevant and necessary to legal proceedings;

(f) Federal agencies having statutory or other lawful authority to maintain such information where relevant and necessary to fulfill statutory responsibilities;

(g) Appropriate agencies, entities, and persons when (1) the Department of State suspects or has confirmed that there has been a breach of the system of records; (2) the Department of State has determined that as a result of the suspected or confirmed breach there is a risk of harm to individuals, the Department of State (including its information systems, programs, and operations), the Federal Government, or national security; and (3) the disclosure made to such agencies, entities, and persons is reasonably necessary to assist in connection with the Department of State efforts to respond to the suspected or confirmed breach or to prevent, minimize, or remedy such harm;

(h) Another Federal agency or Federal entity, when the Department of State determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(i) The Department may respond to federal, state, and local agency inquiries related to child support, alimony, bankruptcy, state tax lien, or similar issues;

(j) Pursuant to a court or agency order, the Department may disclose relevant information to private collection agencies, law firms and/or other individuals authorized to receive benefits under such order; and

(k) The Department may also publish certain information from this system of records in a Department-published annual digest and through other Department-controlled media when the Department reasonably believes that such publication will inform the public about its practice of international law. This may include, but is not limited to, information about cases, proceedings, and inquiries in which the Department participates or is involved.

The Department of State periodically publishes in the Federal Register its standard routine uses which apply to all of its Privacy Act systems of records. These notices appear in the form of a Prefatory Statement (published in Volume 73, Number 136, Public Notice 6290, on July 15, 2008). All of these standard routine uses apply to Legal Case Management Records, State-21.

POLICIES AND PRACTICES FOR STORAGE OF RECORDS:

Records will be stored in both hard copy and electronic media. A description of standard Department of State policies concerning storage of electronic records is found in the Department's Foreign Affairs Manual (https://fam.state.gov/FAM/05FAM/05FAM0440.html). All hard copies of records containing personal information are maintained in secured file cabinets in restricted areas, access to which is limited to authorized personnel only.

POLICIES AND PRACTICES FOR RETRIEVAL OF RECORDS:

Hardcopy by name, date, country, and/or subject; electronic by keyword or metadata.

POLICIES AND PRACTICES FOR RETENTION AND DISPOSAL OF RECORDS:

Records maintained in this system of records are generally permanent and are retired to the Records Service Center one year after the close of the case. These records are retired and destroyed in accordance with published Department of State Records Disposition Schedules as approved by the National Archives and Records Administration (NARA), and a complete list of the Department's schedules can be found on our Freedom of Information Act (FOIA) program's website (https://foia.state.gov/Learn/RecordsDisposition.aspx). More specific information may be obtained by writing to the following address: Director, Office of Information Programs and Services, A/GIS/IPS; SA-2, Department of State; 515 22nd Street NW; Washington, DC 20522-8100.

ADMINISTRATIVE, TECHNICAL, AND PHYSICAL SAFEGUARDS:

All users are given cyber security awareness training that covers the procedures for handling Sensitive but Unclassified information, including personally identifiable information (PII). Annual refresher training is mandatory. In addition, all Foreign Service and Civil Service employees and those Locally Engaged Staff who handle PII are required to take the Foreign Service Institute distance learning course instructing employees on privacy and security requirements, including the rules of behavior for handling PII and the potential consequences if it is handled improperly.

Access to the Department of State, its annexes and posts abroad is controlled by security guards and admission is limited to those individuals possessing a valid identification card or individuals under proper escort. While the majority of records covered in the Legal Case Management Records are electronic, all paper records containing personal information are maintained in secured file cabinets in restricted areas, access to which is limited to authorized personnel. Access to computerized files is password-protected and under the direct supervision of the system manager. The system manager has the capability of printing audit trails of access from the computer media, thereby permitting regular and ad hoc monitoring of computer usage. When it is determined that a user no longer needs access, the user account is disabled.

Before being granted access to Legal Case Management Records, a user must first be granted access to the Department of State computer system. Remote access to the Department of State network from non-Department owned systems is authorized only through a Department approved access program. Remote access to the network is configured with the authentication requirements contained in the Office of Management and Budget Circular Memorandum A-130. All Department of State employees and contractors with authorized access have undergone a background security investigation.

RECORD ACCESS PROCEDURES:

Individuals who wish to gain access to or to amend records pertaining to themselves should write to U.S. Department of State; Director, Office of Information Programs and Services; A/GIS/IPS; SA-2, Suite 8100; Washington, DC 20522-0208. The individual must specify that he or she wishes the Legal Case Management Records to be checked. At a minimum, the individual must include: Full name (including maiden name, if appropriate) and any other names used; current mailing address and zip code; date and place of birth; notarized signature or statement under penalty of perjury; a brief description of the circumstances that caused the creation of the record (including the city and/or country and the approximate dates) which gives the individual cause to believe that the Legal Case Management Records include records pertaining to him or her. Detailed instructions on Department of State procedures for accessing and amending records can be found at the Department's FOIA website (https://foia.state.gov/Request/Guide.aspx).

CONTESTING RECORD PROCEDURES:

Individuals who wish to contest records should write to U.S. Department of State; Director, Office of Information Programs and Services; A/GIS/IPS; SA-2, Suite 8100; Washington, DC 20522-0208.

NOTIFICATION PROCEDURES:

Individuals who have reason to believe that this system of records may contain information pertaining to them may write to U.S. Department of State; Director, Office of Information Programs and Services; A/GIS/IPS; SA-2, Suite 8100; Washington, DC 20522-0208. The individual must specify that he/she wishes the Legal Case Management Records to be checked. At a minimum, the individual must include: full name (including maiden name, if appropriate) and any other names used; current mailing address and zip code; date and place of birth; notarized signature or statement under penalty of perjury; a brief description of the circumstances that caused the creation of the record (including the city and/or country and the approximate dates) which gives the individual cause to believe that the Legal Case Management Records include records pertaining to him or her.

EXEMPTIONS PROMULGATED FOR THE SYSTEM:

Pursuant to 5 U.S.C. 552a(k)(1), records in this system may be exempted from subsections (c)(3), (d), (e)(1), (e)(4)(G), (e)(4)(H), (e)(4)(I), (f) of 552a. See 22 CFR 171.26.

HISTORY:

This SORN was previously published at 81 FR 40741.

Mary R. Avery,
Senior Agency Official for Privacy, Senior Advisor, Office of Global Information Services, Bureau of Administration, Department of State.

[FR Doc. 2018-13212 Filed 6-19-18; 8:45 am]

BILLING CODE 4710-24-P